DEPARTMENT OF ENERGY

Federal Energy Regulatory Commission

[Docket No. EL02-41-000, et al.]

Pittsfield Generating Company, L.P., et al.; Electric Rate and Corporate Regulation Filings

December 18, 2001.

Take notice that the following filings have been made with the Commission. Any comments should be submitted in accordance with Standard Paragraph E at the end of this notice.

1. Pittsfield Generating Company, L.P.

[Docket Nos. EL02-41-000 and QF88-21-009]

Take notice that on November 27, 2001, Pittsfield Generating Company, L.P. filed in the above-referenced docket a request for waiver of the efficiency standard.

A copy of the filing was served on all parties listed in this docket, all parties listed in Docket No. ER98-4400-000, the Massachusetts Department of Telecommunications and Energy, Commonwealth Electric Company, Cambridge Electric Light Company, and New England Power Company.

Comment Date: January 8, 2002.

2. Shady Hills Power Company, L.L.C.

[Docket No. EG02-45-000]

Take notice that on December 13, 2001, Shady Hills Power Company, L.L.C. (Shady Hills Power) filed with the Federal Energy Regulatory Commission (Commission) an application for determination of exempt wholesale generator status pursuant to part 365 of the Commission's regulations.

Shady Hills Power owns a 480 MW generating facility that is under construction in New Port Richey, Florida (the Facility). When completed, the Facility will be interconnected to the transmission system of Florida Power Corporation. The Facility is scheduled to begin commercial operation in March 2002.

Comment Date: January 8, 2002. The Commission will limit its consideration of comments to those that concern the adequacy or accuracy of the application.

3. LSP-Pike Energy, LLC

[Docket No. EG02-46-000]

On December 13, 2001, LSP-Pike Energy, LLC (Pike) filed with the Federal Energy Regulatory Commission (Commission) an application for determination of exempt wholesale generator status pursuant to section 32 of the Public Utility Holding Company Act of 1935 (PUHCA) and part 365 of the Commission's regulations.

As more fully explained in the application, Pike is a limited liability company that will be engaged either directly or indirectly and exclusively in the business of owning and operating an electric generation facility located in Mississippi.

Comment Date: January 8, 2002. The Commission will limit its consideration of comments to those that concern the adequacy or accuracy of the application.

4. Blue Spruce Energy Center, LLC

[Docket No. EG02-47-000]

Take notice that on December 14, 2001, Blue Spruce Energy Center, LLC (Blue Spruce) filed with the Federal Energy Regulatory Commission (Commission) an application for determination of exempt wholesale generator status pursuant to part 365 of the Commission's regulations.

Blue Spruce, a Delaware limited liability company, proposes to own and operate a 336 MW electric generating facility and sell the output at wholesale to electric utilities, an affiliated power marketer and other purchasers. The facility is a natural gas-fired, simple cycle generating facility, which is under development in Adams County, Colorado.

Comment Date: January 8, 2002. The Commission will limit its consideration of comments to those that concern the adequacy or accuracy of the application.

5. Duke Energy Marshall County, LLC

[Docket No. EG02-48-000]

Take notice that on December 12, 2001, Duke Energy Marshall County, LLC (Duke Marshall) filed an application with the Federal Energy Regulatory Commission (the Commission) for determination of exempt wholesale generator status pursuant to section 32 of the Public Utility Holding Company Act of 1935, as amended, and part 365 of the Commission's regulations.

Duke Marshall is a Delaware limited liability company that will be engaged directly and exclusively in the business of operating all or part of one or more eligible facilities to be located in Marshall County, Kentucky. The eligible facilities will consist of an approximately 640 MW dual fuel fired simple cycle electric generation plant and related interconnection facilities. The output of the eligible facilities will be sold at wholesale.

Comment Date: January 8, 2002. The Commission will limit its consideration of comments to those that concern the adequacy or accuracy of the application.

6. Progress Energy, Inc. on Behalf of Florida Power Corporation

[Docket No. ER02-534-000]

Take notice that on December 13, 2001, Florida Power Corporation (FPC) filed a Service Agreement with DTE Energy Trading, Inc. under FPC's Short-Form Market-Based Wholesale Power Sales Tariff (SM-1), FERC Electric Tariff No. 10. A copy of this filing was served upon the Florida Public Service Commission and the North Carolina Utilities Commission.

FPC is requesting an effective date of November 20, 2001 for this Agreement.

Comment Date: January 3, 2002.

7. Xcel Energy Services, Inc.

[Docket No. ER02-535-000]

Take notice that on December 13, 2001, Xcel Energy Services, Inc. (XES), on behalf of Northern States Power Company and Northern States Power Company (Wisconsin) (collectively, NSP), submitted for filing a Form of Service Agreement with Lighthouse Energy Trading, Inc. (Lighthouse), which is in accordance with NSP's Rate Schedule for Market-Based Power Sales (NSP Companies FERC Electric Tariff, Original Volume No. 6).

XES requests that this agreement become effective on October 24, 2001.

Comment Date: January 3, 2002.

8. Progress Energy, Inc. on behalf of Florida Power Corporation

[Docket No. ER02-536-000]

Take notice that on December 13, 2001, Florida Power Corporation (FPC) filed a Service Agreement with The Detroit Edison Company under FPC's Short-Form Market-Based Wholesale Power Sales Tariff (SM-1), FERC Electric Tariff No. 10. A copy of this filing was served upon the Florida Public Service Commission and the North Carolina Utilities Commission.

FPC is requesting an effective date of November 20, 2001 for this Agreement.

Comment Date: January 3, 2002.

9. Shady Hills Power Company, LLC

[Docket No. ER02-537-000]

Take notice that on December 13, 2001, Shady Hills Power Company, LLC (Shady Hills Power) tendered for filing with the Federal Energy Regulatory Commission (Commission) an application for an order accepting its FERC Electric Tariff No. 1, granting certain blanket approvals, including the authority to sell electricity at market-base rates, and waiving certain regulations of the Commission. Shady Hills Power requested expedited Commission consideration. Shady Hills Power requested that its Rate Schedule No. 1 become effective upon the earlier of the date the Commission authorizes market-based rate authority, or 30-days from the date of this filing. Shady Hills Power also filed its FERC Electric Tariff No. 1.

Comment Date: January 3, 2002.

10. LSP-Pike Energy, LLC

[Docket No. ER02-538-000]

Take notice that on December 13, 2001, LSP-Pike Energy, LLC (Pike) filed with the Federal Energy Regulatory Commission (Commission), under section 205 of the Federal Power Act (FPA), an application requesting that the Commission (1) accept for filing its proposed market-based FERC Rate Schedule No. 1; (2) grant blanket authority to make market-based wholesale sales of capacity and energy under the FERC Rate Schedule No. 1; (3) grant authority to sell ancillary services at market-based rates; and (4) grant such waivers and blanket authorizations as the Commission has granted in the past to other nonfranchised entities with market-based rate authority.

Comment Date: January 3, 2002.

11. Mid-Continent Area Power Pool

[Docket No. ER02-539-000]

Take notice that on December 13, 2001, the Mid-Continent Area Power Pool, on behalf of its public utility members, filed executed short-term firm and non-firm service agreements under MAPP Schedule F with Exelon Generating Company, LLC.

Comment Date: January 3, 2002.

12. Michigan Electric Transmission Company

[Docket No. ER02-540-000]

Take notice that on December 13, 2001 Michigan Electric Transmission Company (METC) tendered for filing an unexecuted Generator Interconnection and Operating Agreement Between METC and Tallmadge Generation Company, LLC [Generator] (Agreement). Generator had requested that the unexecuted Agreement be filed. METC requested that the Agreement be allowed to become effective December 13, 2001.

Copies of the filing were served upon Generator and the Michigan Public Service Commission.

Comment Date: January 3, 2002.

13. Michigan Electric Transmission Company

[Docket No. ER02-541-000]

Take notice that on December 13, 2001, Michigan Electric Transmission Company (METC) tendered for filing an executed Service Agreement for Network Integration Transmission Service and a Network Operating Agreement with Midwest Energy Cooperative (Midwest) and Wabash Valley Power Association, Inc. (Wabash) pursuant to METC's Open Access Transmission Service Tariff (METC FERC Electric Tariff No. 1). Copies of the filed agreements were served upon the Michigan Public Service Commission, Wabash and Midwest.

METC is requesting an effective date of January 1, 2002 for the Agreements.

Comment Date: January 3, 2002.

14. Tucson Electric Power Company

[Docket No. ER02-542-000]

Take notice that on December 17, 2001, Tucson Electric Power Company tendered for filing one (1) Umbrella Service Agreement (for short-term firm service) and one (1) Service Agreement (for non-firm service) pursuant to Part II of Tucson's Open Access Transmission Tariff, which was filed in Docket No. ER01-208-000.

The details of the service agreements are as follows: Umbrella Agreement for Short-Term Firm Point-to-Point Transmission Service dated as of September 26, 2001 by and between Tucson Electric Power Company El Paso Electric Company—FERC Electric Tariff Vol. No. 2, Service Agreement No. 176. No service has commenced at this time. Form of Service Agreement for Non-Firm Point-to Point Transmission Service dated as of September 26, 2001 by and between Tucson Electric Power Company El Paso Electric Company—FERC Electric Tariff Vol. No. 2, Service Agreement No. 177. No service has commenced at this time.

Comment Date: January 7, 2002.

15. Duke Energy Corporation

[Docket No. ER02-543-000]

Take notice that on December 11, 2001, Duke Electric Transmission (Duke), a division of Duke Energy Corporation, tendered for filing a Service Agreement with PSEG Energy Resources for Firm Transmission Service under Duke's Open Access Transmission Tariff. Duke requests that the proposed Service Agreement be permitted to become effective on November 27, 2001. Duke states that this filing is in accordance with part 35 of the Commission's regulations, 18 CFR 35, and that a copy has been served on the North Carolina Utilities Commission.

Comment Date: January 2, 2002.

16. American Transmission Company LLC

[Docket No. ER02-548-000]

Take notice that on December 14, 2001, American Transmission Company LLC (ATCLLC) tendered for filing Generation-Transmission Interconnection Agreements for the Port Washington Power Plant, Power the Future Units and the Oak Creek Power Plant, Power the Future Units between Wisconsin Electric Power Company and ATCLLC. ATCLLC requests and effective date of December 14, 2001.

Comment Date: January 4, 2002.

17. Entergy Services, Inc.

[Docket No. ER02-550-000]

Take notice that on December 14, 2001, Entergy Services, Inc. (Entergy Services), on behalf of Entergy Arkansas, Inc., Entergy Gulf States, Inc., Entergy Louisiana, Inc., Entergy Mississippi, Inc., and Entergy New Orleans, Inc. (collectively, the Entergy Operating Companies), submitted for filing the Second Revised Network Integration Transmission Service Agreement between Energy Services, as agent for the Entergy Operating Companies, and Louisiana Generating LLC.

Comment Date: January 4, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31590 Filed 12-21-01; 8:45 am]

BILLING CODE 6717-01-P